DEPARTMENT OF HOUSING AND URBAN DEVELOPMENT

[Docket No. FR-7034-N-62]

30-Day Notice of Proposed Information Collection: Data Collection and Reporting for HUD's Homeless Assistance Programs—Annual Performance Report and System Performance Report; OMB Control No: 2506-0145

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: December 3, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on July 21, 2021 at 86 FR 38499.

A. Overview of Information Collection

Title of Information Collection: Data Collection and Reporting for HUD's Homeless Assistance Programs—Annual Performance Report and System Performance Report

OMB Approval Number: 2506-0145.

Type of Request: Reinstatement.

Form Number: None.

Description of the Need for the Information and Proposed Use: This request is for clearance of data collection and reporting to enable the U.S. Department of Housing and Urban Development (HUD) Office of Community Planning and Development (CPD) to continue to manage and assess the effectiveness of its homeless assistance projects on an annual basis. Per 24 CFR 578.103(e), HUD requires recipients and subrecipients that receive funding through the CoC Program (authorized by the McKinney-Vento Homeless Assistance Act, as amended by the Homeless Emergency Assistance and Rapid Transition to Housing (HEARTH) Act) to prepare and submit annual project-level reports on performance and spending.

This request will also enable the HUD CPD Office to initiate a process to assess the effectiveness of local coordinated systems of homeless assistance. The McKinney-Vento Homeless Assistance Act, as amended, now requires communities to measure their performance as a coordinated system, in addition to analyzing performance by specific projects or project types. Section 427 of the Act established a set of selection criteria for HUD to use in awarding CoC Program funding. These selection criteria require CoCs to report to HUD their system-level performance. The intent of these selection criteria are to encourage CoCs, in coordination with Emergency Solutions Grant (ESG) Program recipients and all other homeless assistance stakeholders in the community, to regularly measure their progress in meeting the needs of people experiencing homelessness in their community and to report this progress to HUD. This request is for HUD to collect system-level performance measure data from CoCs on an annual basis, as described in Appendix B of this document.

The project APR and system-level performance measures both rely on a primary data source in each CoC—a local Homeless Management Information System (HMIS). An HMIS is an electronic data collection system that stores person-level information about homeless persons who access a community's homeless service system. Over the past decade, HUD has supported the development of local HMIS by funding their development and implementation, by providing technical assistance, and by developing national data standards that enable the collection of standardized information on the characteristics, service patterns and service needs of homeless persons within a jurisdiction and across jurisdictions. These standards are described in HUD's HMIS Data Standards.

Information collection | Number of respondents | Frequency of response | Responses per annum | Burden hour per response | Annual burden hours | Hourly cost per response | Annual cost
Annual Performance Report (CoC Program)—Non-profit Recipients | 4,000.00 | 1 | 4,000.00 | 4.00 | 16,000.00 | $44.57 | $713,120.00
Annual Performance Report (YHDP)—Non-profit Recipients | 200.00 | 5 | 1,000.00 | 5.00 | 5,000.00 | 44.57 | 222,850.00
Performance Report (Special CoC NOFA Grants)—Non-profit Recipients | 25.00 | 5 | 125.00 | 4.00 | 500.00 | 44.57 | 22,285.00
Annual Performance Report (CoC Program)—State and Local Recipients | 4,000.00 | 1 | 4,000.00 | 4.00 | 16,000.00 | 44.57 | 713,120.00
Annual Performance Report (YHDP)—State and Local Recipients | 200.00 | 5 | 1,000.00 | 5.00 | 5,000.00 | 44.57 | 222,850.00
Performance Report (Special CoC NOFA Grants)—State and Local Recipients | 25.00 | 5 | 125.00 | 4.00 | 500.00 | 44.57 | 22,285.00
Total | 8,450.00 |  | 10,250.00 |  | 43,000.00 |  | 1,916,510.00

Information collection | Number of respondents | Frequency of response | Responses per annum | Burden hour per response | Annual burden hours | Hourly cost per response | Annual cost
Group 1: CoCs with Automated Software Report | 385.00 | 1 | 385.00 | 13.00 | 5,005.00 | $44.57 | $223,072.85
Group 2: CoCs with Manual Software Report | 15.00 | 1 | 15.00 | 15.00 | 225.00 | 44.57 | 10,028.25
Total | 400.00 |  | 400.00 |  | 5,230.00 |  | 233,101.10

Information collection | Number of respondents | Frequency of response | Responses per annum | Burden hour per response | Annual burden hours | Hourly cost per response | Annual cost
CoCs | 400.00 | 4 | 1,600.00 | 1.00 | 1,600.00 | $40.53 | $64,848.00
HMIS Lead Agency | 400.00 | 1 | 400.00 | 1.00 | 400.00 | 40.53 | 16,212.00
Project Recipients | 600.00 | 1 | 600.00 | 0.50 | 600.00 | 40.53 | 12,159.00
Total | 1,400.00 |  | 2,600.00 |  | 2,300.00 |  | 93,219.00

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-23983 Filed 11-2-21; 8:45 am]

BILLING CODE 4210-67-P